DEPARTMENT OF THE INTERIOR

National Park Service

Draft Rehabilitation of the Going-to-the-Sun Road, Environmental Impact Statement, Glacier National Park, a Portion of Waterton-Glacier International Peace Park, Montana

AGENCY: National Park Service, Department of the Interior.

ACTION: Notice of Availability of draft environmental impact statement for rehabilitation of the Going-to-the-Sun Road for Glacier National Park.

SUMMARY: Pursuant to the National Environmental Policy Act of 1969, 42 U.S.C. 4332(c), the National Park Service announces the availability of a draft Environmental Impact Statement for the Rehabilitation of the Going-to-the-Sun Road for Glacier National Park, a portion of Waterton-Glacier International Peace Park, Montana.

DATES: The National Park Service will accept comment from the public on the Draft Environmental Impact Statement for 70 days after publication of this notice. Public meetings will be announced during the public review period.

ADDRESSES: Copies of the DEIS are available for public review and comment in the Project Management Office, Glacier National Park, West Glacier, Montana 59936, and at the locations listed below. It is also available on the park's web site at http://www.nps.gov/glac as a pdf file. An Executive Summary is also available on the web site or upon request.

Project Management Office, Glacier National Park, West Glacier, Montana 59936.

Planning and Environmental Quality, Intermountain Support Office—Denver. National Park Service, 12795 W. Alameda Parkway, Lakewood, Colorado 80228.

Office of Public Affairs, National Park Service, Department of the Interior, 18th and C Street NW., Washington, DC 20240.

Bozeman Public Library, 220 East Lamme, Bozeman, Montana 59715.

Browning Public Library, Post Office Box 550, Browning, Montana 59417.

Butte County Library, 226 West Broadway, Butte, Montana 59701.

Cardston Public Library, 25 3rd Avenue West, Cardston, Alberta, Canada T0K 0K0.

Choteau Public Library, 17 North Main Avenue, Choteau, MT 59422.

Columbia Falls Branch Library, 120 6th Street West, Columbia Falls, Montana 59912.

Cut Bank Library, 21 1st Avenue SE, Cut Bank, Montana 59427.

Flathead County Library, 247 1st Avenue East, Kalispell, Montana 59901.

Glacier National Park Library, Headquarters Building, West Glacier, Montana 59936.

Great Falls Public Library, 301 2nd Avenue North, Great Falls, Montana 59401.

Lethbridge Public Library, 810—5 Avenue South, Lethbridge, Alberta, Canada, T1J 4C4.

Lewis & Clark Library, 120 South Last Chance Gulch Street, Helena, Montana 59624.

Missoula Public Library, 301 East Main, Missoula, Montana 59802.

Parmly Billings Library, 501 North Broadway, Billings, Montana 59101.

Pincher Creek Municipal Library, 895 Main Street, Pincher Creek, Alberta, Canada T0K 1W0.

Waterton Lakes National Park, Park Administration Building, 215 Mount View Road, Alberta, Canada T0K 2M0.

Whitefish Branch Library, 9 Spokane Avenue, Whitefish, Montana 59937.

FOR FURTHER INFORMATION CONTACT: Mary Riddle, Glacier National Park, 406-888-7898.

SUPPLEMENTARY INFORMATION: If you wish to comment, you may submit your comments by any one of several methods. You may mail comments to Superintendent, Project Management Office, Glacier National Park, West Glacier, Montana 59936. You may also comment via e-mail to: glac_project_public_comment@nps.gov. Please submit e-mail comments as an ASCII file avoiding the use of special characters and any form of encryption. Please also include “Attn: GTSR EIS” and your name and return address in your e-mail message. If you do not receive a confirmation from the system that we have received your e-mail message, contact us directly (Dayna Hudson, 406-888-7972). Finally, you may hand-deliver comments to Glacier National Park, Headquarters, Going-to-the-Sun Road, West Glacier, Montana. Our practice is to make comments, including names and home addresses of respondents available for public review during regular business hours. Individual respondents may request that we withhold their home address from the record, which we will honor to the extent allowable by law. If you wish us to withhold your address, you must state this prominently at the beginning of your comment. We will make all submissions from organizations or businesses, and from individuals identifying themselves as representatives or officials of organizations or businesses, available for public inspection in their entirety.

Dated: July 29, 2002.
Karen P. Wade,
Director, Intermountain Region, National Park Service.

[FR Doc. 02-23015 Filed 9-10-02; 8:45 am]

BILLING CODE 4310-70-P